DEPARTMENT OF TRANSPORTATION

National Highway Traffic Safety Administration

[Docket No. NHTSA-2006-24137; Notice 1]

General Motors Corporation, Receipt of Petition for Decision of Inconsequential Noncompliance

General Motors Corporation (GM) has determined that certain 2006 model year Cadillac XLR vehicles do not comply with S7.8.2.1(c) of 49 CFR 571.108, Federal Motor Vehicle Safety Standard (FMVSS) No. 108, “Lamps, reflective devices, and associated equipment.” GM has filed an appropriate report pursuant to 49 CFR part 573, “Defect and Noncompliance Reports.”

Pursuant to 49 U.S.C. 30118(d) and 30120(h), GM has petitioned for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

Affected are a total of approximately 1,074 model year 2006 Cadillac XLR vehicles produced between July 26, 2005 and November 3, 2005. S7.8.2.1(c) of FMVSS No. 108 requires that if visually/optically (VO) aimable headlamps are equipped with horizontal adjustment, then they must meet the applicable headlamp aim requirements in S7.8.5.2. The noncompliant headlamps are equipped with a horizontal adjustment but do not meet the S7.8.5.2 requirements. GM explains that during the assembly process the horizontal adjuster is supposed to be disabled but in the case of the subject lamps, the disabling was not done. GM has corrected the problem that caused these errors so that they will not be repeated in future production.

GM believes that the noncompliance is inconsequential to motor vehicle safety and that no corrective action is warranted. GM offers several bases for this assertion.

First, GM states that the location of the horizontal adjuster makes it difficult to access, because it is recessed six inches behind the opening under the top of the fender and there is no information in the owner's manual indicating the location.

Second, GM states that the horizontal adjuster requires a different tool than the vertical adjuster, a tool which is not commonly available to the public.

Third, GM states that the lamps are properly aimed and the need for re-aiming is unlikely. GM explains that VO headlamps have a wider beam pattern, making horizontal aiming unnecessary, supported by the fact that GM is not aware of warranty claims or customer complaints regarding the headlamps' horizontal aim.

Fourth, GM states that it is unlikely that owners will try to adjust headlamp aim for the following reasons. The owner's manual instructs drivers to take the vehicle to the dealer if the lamps need to be re-aimed, a four-year 50,000 mile warranty on the vehicle makes it more likely that any adjustments will be performed by the dealer, the wide beam reduces the need for headlamp adjustment, and it is unlikely that luxury car customers would make their own repairs.

Fifth, GM asserts that it is unlikely that dealers will try to horizontally adjust the lamps because they are not aware of the horizontal adjustment.

Sixth, GM states that the lamps are designed to compensate for build variation and vehicle repair, and it conducted additional testing which it believes validates that road vibration will not result in the lamps being out of aim.

Seventh, GM states that it is not aware of crashes, injuries, complaints, or field reports related to the noncompliance.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: Go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: May 5, 2006.

(Authority: 49 U.S.C. 30118, 30120: delegations of authority at CFR 1.50 and 501.8)

Issued on: March 30, 2006.
Daniel C. Smith,
Associate Administrator for Enforcement.

[FR Doc. E6-4912 Filed 4-4-06; 8:45 am]

BILLING CODE 4910-59-P